SECURITIES AND EXCHANGE COMMISSION

[File No. 1-9401]

Issuer Delisting; Notice of Application To Withdraw From listing and Registration on the American Stock Exchange LLC (Thermwood Corporation, Common Stock No Par Value and 12% Subordinated Debentures (Due 2014))

October 24, 2001.

Thermwood Corporation, an Indiana corporation (“Issuer”), has filed an application with the Securities and Exchange Commission (“Commission”), pursuant to section 12(d) of the Securities Exchange Act of 1934 (“Act” ¹ and rule 12d2-2(d) thereunder,² to withdraw its Common Stock, no par value, and 12% Subordinated Debentures (due 2014) (“Securities”) from listing and registration on the American Stock Exchange, Inc. (“Amex”).

¹ 15 U.S.C. 781(d).

² 17 CFR 240.12d2-2(d).

The Board of Directors (“Board”) of the Issuer approved a resolution on October 12, 2001 to withdraw its Securities from listing on the Exchange. The Board represents that the advantages of being a reporting company under the Act do not offset the cost associated with the SEC's reporting requirements. In addition, the Securities are thinly traded and are held by less than 100 shareholders.

The Issuer states in its application that it has met the requirements of the Amex Rule 18 by complying with all applicable laws in effect in the state of Indiana, in which it is incorporated, and with the Amex's rules governing an issuer's voluntary withdrawal of a security from listing and registration. The Issuer's application relates solely to the withdrawal of the Securities from the Amex and registration under section 12(b) of the Act ³ and shall not affect its obligation to be register under section 12(g) of the Act.⁴

³ 15 U.S.C. 781(b).

⁴ 15 U.S.C. 781(g).

Any interested person may, on or before November 14, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 01-27307 Filed 10-29-01; 8:45 am]

BILLING CODE 8010-01-M